SECURITIES AND EXCHANGE COMMISSION

Notice of Sunshine Act Meetings

Notice is hereby given, pursuant to the provisions of the Government in the Sunshine Act, Public Law 94-409, that the Securities and Exchange Commission will hold the following meetings during the week of July 10, 2006:

An Open Meeting will be held on Wednesday, July 12, 2006 at 10 a.m. in the Auditorium, Room LL-002, and a Closed Meeting will be held on Thursday, July 13, 2006 at 1 p.m.

Commissioners, Counsel to the Commissioners, the Secretary to the Commission, and recording secretaries will attend the Closed Meeting. Certain staff members who have an interest in the matters may also be present.

The General Counsel of the Commission, or his designee, has certified that, in his opinion, one or more of the exemptions set forth in 5 U.S.C. 552b(c)(3), (5), (7), (9)(B), (10) and 17 CFR 200.402(a)(3), (5), (7), (9)(ii), and (10) permit consideration of the scheduled matters at the Closed Meeting.

Commissioner Campos, as duty officer, voted to consider the items listed for the closed meeting in closed session, determined that no earlier notice thereof was possible.

The subject matter of the Open Meeting scheduled for Wednesday, July 12, 2006 will be:

1. The Commission will consider whether to issue an interpretive release regarding client commission practices under section 28(e) of the Securities Exchange Act of 1934. The interpretive release is designed to provide guidance to securities industry participants on money managers' use of client commission dollars to pay for “brokerage and research services” under section 28(e). The interpretive release is subsequent to the Commission's issuance of proposed guidance and solicitation of public comment in Release No. 34-52635 (October 19, 2005), File No. S7-09-05.

2. The Commission will consider whether to propose amendments to Rule 203 of Regulation SHO under the Securities Exchange Act of 1934 to reduce the frequency that stock is not delivered after it is sold. The Commission also will consider whether to propose amendments to update the market decline limitation referenced in Rule 200(e)(3) of Regulation SHO.

The subject matter of the Closed Meeting scheduled for Thursday, July 13, 2006 will be:

Formal orders of investigation;

Institution and settlement of injunctive actions;

Institution and settlement of administrative proceedings of an enforcement nature;

Litigation matter;

Resolution of litigation matters; and a Post-argument discussion.

At times, changes in Commission priorities require alterations in the scheduling of meeting items.

For further information and to ascertain what, if any, matters have been added, deleted or postponed, please contact: The Office of the Secretary at (202) 551-5400.

Dated: July 6, 2006.
J. Lynn Taylor,
Assistant Secretary.

[FR Doc. 06-6148 Filed 7-7-06; 9:33 am]

BILLING CODE 8010-01-P